DEPARTMENT OF THE TREASURY

Internal Revenue Service

Software Developer's Conference

AGENCY: Internal Revenue Service (IRS), Treasury.

ACTION: Software Developer's Conference notification.

SUMMARY: The Software Developer's Conference will be held on June 26-27, 2002. The conference will be held in the Ritz-Carlton, Pentagon City, Arlington, VA. A summarized version of the agenda, along with a list of topics that are planned to be discussed are listed below.

SUPPLEMENTARY INFORMATION:

Summarized Agenda for Conference Wednesday, June 26, 2002

8:00—Conference Begins

12:15—Break for Lunch

1:15—Conference Resumes

5:00—Conference Adjourns

The topics that are planned to be covered are as follows:

(1) Privacy

(2) Security

(3) EMS

(4) Help Desk

(5) ETA Transition

(6) Operations, Form 1040

(7) Change in Due Date

(8) Payments & Business Returns

(9) Internet-Based Fee/Transaction Service for Credit Card Processing

(10) Form 1041

(11) Form 1065

(12) Employment Tax

Summarized Agenda for Conference Wednesday, June 27, 2002

8:00—Conference Begins

12:00—Break for Lunch

1:00—Conference Resumes

5:00—Conference Adjourns

The topics that are planned to be covered are as follows

(1) Modernized e-file

(2) Form 1120 Architecture

(3) Form 1120 e-file

(4) Form 990 e-file

(5) EZ Tax Filing Consortium

(6) e-services

(7) 2 D Bar Code

(8) Break Out Groups

Note: Last minute changes to these topics are possible and could prevent advance notice.

The conference is being sponsored by the Electronic Tax Administration.

The conference will be in a room that accommodates approximately 150 people, including IRS officials. Registration forms for the IRS e-file Software Developers Conference may be obtained by visiting our Web site: www.irs.gov. Click on the IRS e-file logo at the bottom and then click Software Developers & Transmitters. Registration should be received by May 24, 2002. In addition, a draft agenda is available.

Terence H. Lutes,
Director, Electronic Tax Administration.

[FR Doc. 02-13176 Filed 5-28-02; 8:45 am]

BILLING CODE 4830-01-P